FEDERAL COMMUNICATIONS COMMISSION

Notice of Public Information Collection(s) Being Reviewed by the Federal Communications Commission, Comments Requested

September 24, 2007.

SUMMARY: The Federal Communications Commission, as part of its continuing effort to reduce paperwork burden, invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 30, 2007. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Jerry Cowden, Federal Communications Commission, Room 1-B135, 445 12th Street, SW., Washington, DC 20554.

FOR FURTHER INFORMATION CONTACT: For additional information about the information collection(s), contact Jerry Cowden via e-mail at PRA@fcc.gov or call (202) 418-0447.

SUPPLEMENTARY INFORMATION: OMB Control No.: 3060-0076.

Title: Common Carrier Annual Employment Report (47 CFR 1.815, 22.321, 23.55, 90.168, 101.4, and 101.311).

Form No.: FCC Form 395.

Type of Review: Revision of a currently approved collection.

Respondents: Business or other for-profit.

Number of Respondents: 1,100 respondents; 1,100 responses.

Estimated Time per Response: 1 hour.

Frequency of Response: Annual reporting requirement; recordkeeping requirement.

Obligation to Respond: Required to obtain or retain a benefit.

Total Annual Burden: 1,100 hours.

Total Annual Cost: None.

Privacy Impact Assessment: Not applicable.

Nature of Extent of Confidentiality: There is no need for confidentiality.

Needs and Uses: The Common Carrier Annual Employment Report (FCC Form 395) is required of all FCC licensees or permittees of common carrier stations with 16 or more full-time employees. In addition, discrimination reports must be filed by all licensees or permittees, regardless of the number of employees, in accordance with sections 21.307(d), 22.321(c), and 23.55(d) of the Commission's rules. The discrimination complaint requirement can be satisfied by completing Section V of FCC Form 395, instead of by submission of a separate report. Information collected on the Form 395 contains breakouts of various job categories and contains the number of full-time and part-time male and female employees by race and ethnic categories. The Commission will revise the FCC Form 395 to conform to the Equal Employment Opportunity Commission's revised Race and Ethnic Standards.

Federal Communications Commission.
Marlene H. Dortch,
Secretary.

[FR Doc. E7-19226 Filed 9-28-07; 8:45 am]

BILLING CODE 6712-01-P